DEPARTMENT OF ENERGY

Agency Information Collection Extension

AGENCY: Office of Energy Efficiency and Renewable Energy, U.S. Department of Energy.

ACTION: Notice and request for comments.

SUMMARY: The Department of Energy (DOE), pursuant to the Paperwork Reduction Act of 1995, intends to extend for three years, an information collection request with the Office of Management and Budget (OMB). Comments are invited on: Whether the extended collection of information is necessary for the proper performance of the functions of the agency, including whether the information shall have practical utility; the accuracy of the agency's estimate of the burden of the proposed collection of information, including the validity of the methodology and assumptions used; ways to enhance the quality, utility, and clarity of the information to be collected; and ways to minimize the burden of the collection of information on respondents, including through the use of automated collection techniques or other forms of information technology.

DATES: Comments regarding this proposed information collection must be received on or before September 24, 2018. If you anticipate difficulty in submitting comments within that period, contact the person listed below as soon as possible.

ADDRESSES: Written comments may be sent Andre de Fontaine, EE-5A/Forrestal Building, 1000 Independence Avenue SW, Washington, DC 20585, by fax at (202) 586-8177, or by email at andre.defontaine@ee.doe.gov.

FOR FURTHER INFORMATION CONTACT: Requests for additional information or copies of the information collection instrument and instructions should be directed to Andre de Fontaine, EE-5A/Forrestal Building, 1000 Independence Avenue SW, Washington, DC 20585, by fax at (202) 586-8177, or by email at andre.defontaine@ee.doe.gov.

SUPPLEMENTARY INFORMATION: This information collection request contains:

(1) OMB No. 1910-5141;

(2) Information Collection Request Title: Department of Energy Better Buildings Challenge, Better Buildings Alliance, and the Better Buildings, Better Plants Voluntary Pledge Program;

(3) Type of Review: Extension with Revision of a Currently Approved Collection

(4) Purpose: This Information Collection Request applies to three Department of Energy (DOE) voluntary leadership initiatives that fall under DOE's Better Buildings Initiative: (1) The Better Buildings Challenge; (2) the Better Buildings, Better Plants Program (Better Plants); and (3) the Better Buildings Alliance. Two new information collection instruments are proposed in order to streamline the application process for a manufacturing leadership awards program under Better Plants. Other pre-existing collection forms are being amended for clarity and to reduce burden on respondents. Also, the total number of respondents and response time for individual program areas is being adjusted to align with practical experience and to account for the program's growth over time. For example, due to improved data quality controls and greater experience observing partners, the hours per response has been increased for the Better Buildings, Better Plants Challenge Annual Reporting Form. The total number of hours associated with the Annual Better Plants Program Pledge Form was decreased to account for the establishment of more efficient internal collection processes as partners gain experience in the program. The number of hours per response for both the Better Buildings, Better Plants Web Profile Development and Water Data Collection forms, respectively, were changed to reflect actual partner response time based on practical experience.

The leadership initiatives in the Better Buildings Initiative covered under this Information Collection Request are intended to drive greater energy and water efficiency in the commercial, public, residential, data center, and industrial marketplace to reduce pollution, cut costs, and create jobs. This is accomplished by highlighting the ways participants overcome market barriers to greater efficiency with replicable solutions. The program showcases real solutions and partners with industry leaders to better understand policy and technical opportunities. There are three types of information to be collected from primary participants, also referred to as “Partners”: (1) Background data, including contact information, a partnership agreement form, logo(s), information needed to support public announcements, updates on participants' showcase projects, and an energy savings goal; (2) Portfolio-wide energy performance information; and (3) Information on market innovations participants are including in their energy efficiency processes. Background data is primarily used to develop website content that is publically available. Portfolio-wide facility-level energy performance information is used by DOE to measure the participants' progress in meeting the goals of the program, as well as to aggregate the change in energy performance and related metrics for the entire program. Information on market innovation is used to highlight successful strategies participants use to overcome challenges, and is made publicly available. Additional background information is being collected from “Allies”, financial and utility organizations that make a public commitment to support the energy efficiency marketplace. Background information including name, dollars committed to the market, and a company logo is also used to develop publically available website content. Responses to the DOE's Information Collection Request are voluntary.

(5) Annual Estimated Number of Respondents: 752, a slight increase over the current ICR's 740, which reflects modest growth in participation across the programs.

(6) Annual Estimated Number of Total Responses: 897, a slight decrease from the current ICR's 933, which is driven by a change in frequency of reporting from biannual to annual for one information collection form.

(7) Annual Estimated Number of Burden Hours: 2,232.25, a decrease from the current ICR's 2,709.25, which reflects improved data collection and reporting processes put in place by partners, especially those that have been participating in the programs for multiple years.

(8) Annual Estimated Reporting and Recordkeeping Cost Burden: $90,475, a reduction from the current ICR's $106,934.

Statutory Authority: Section 421 of the Energy Independence and Security Act of 2007 (42 U.S.C. 17081); Section 911 of the Energy Policy Act of 2005, as amended (42 U.S.C. 16191).

Issued in Washington, DC, on July 17, 2018.
Maria Vargas,
Director Better Buildings Challenge, Office of Energy Efficiency & Renewable Energy.

[FR Doc. 2018-15985 Filed 7-25-18; 8:45 am]

BILLING CODE 6450-01-P